DEPARTMENT OF VETERANS AFFAIRS

[OMB Control No. 2900-0132]

Agency Information Collection Activities Under OMB Review

AGENCY: Veterans Benefits Administration, Department of Veterans Affairs

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before May 11, 2000.

FOR FURTHER INFORMATION OR A COPY OF THE SUBMISSION CONTACT: Denise McLamb, Information Management Service (045A4), Department of Veterans Affairs, 810 Vermont Avenue, NW, Washington, DC 20420, (202) 273-8030 or FAX (202) 273-5981. Please refer to “OMB Control No. 2900-0132.”

SUPPLEMENTARY INFORMATION: Title: Veteran's Application in Acquiring Specially Adapted Housing or Special Home Adaptation Grant, VA Form 26-4555.

OMB Control Number: 2900-0132.

Type of Review: Extension of a currently approved collection.

Abstract: VA grants for specially adapted housing and special housing adaptations for disabled veterans are authorized under Title 38, U.S.C., 2101(a) and (b). VA Form 26-4555 is used to gather information to determine the veteran's eligibility to specially adapted housing or special home adaptation grant.

An agency may not conduct or sponsor, and a person is not required to respond to a collection of information unless it displays a currently valid OMB control number. The Federal Register Notice with a 60-day comment period soliciting comments on this collection of information was published on December 2, 1999, at pages 67624-67625.

Affected Public: Individuals or households.

Estimated Annual Burden: 133 hours.

Estimated Average Burden Per Respondent: 10 minutes.

Frequency of Response: On occasion.

Estimated Number of Respondents: 800.

Send comments and recommendations concerning any aspect of the information collection to VA's OMB Desk Officer, Allison Eydt, OMB Human Resources and Housing Branch, New Executive Office Building, Room 12035, Washington, DC 20503 (202) 395-4650. Please refer to “OMB Control No. 2900-0132” in any correspondence.

Dated: March 2, 2000.
By direction of the Secretary.
Donald L. Neilson,
Director, Information Management Service

[FR Doc. 00-8979 Filed 4-10-00; 8:45 am]

BILLING CODE 8320-01-P